DEPARTMENT OF TRANSPORTATION

Federal Aviation Administration

14 CFR Part 1

[Docket No. FAA-2010-0812; Amdt. No. 1-66]

RIN 2120-AJ81

Feathering Propeller Systems for Light-Sport Aircraft Powered Gliders

AGENCY: Federal Aviation Administration (FAA), DOT.

ACTION: Final rule; notice of confirmation of effective date.

SUMMARY: This action confirms the effective date of the final rule published on January 3, 2011. The final rule amends the definition of light-sport aircraft by removing “auto” from the term “autofeathering” as it applies to powered gliders. This amendment will allow both manual and autofeathering propeller operation for powered gliders that qualify as light-sport aircraft.

DATES: The effective date for the final rule published January 3, 2011, at 76 FR 5, is confirmed as March 4, 2011.

ADDRESSES: For information on where to obtain copies of rulemaking documents and other information related to this action, see “How to Obtain Additional Information” in the SUPPLEMENTARY INFORMATION section of this document.

FOR FURTHER INFORMATION CONTACT: For technical questions concerning this action, contact Terry Chasteen, Federal Aviation Administration, Aircraft Certification Service, Small Airplane Directorate, ACE-114, 901 Locust, Room 301, Kansas City, MO 64106; telephone: (816) 329-4147; fax: (816) 329-4090; e-mail: terry.chasteen@faa.gov. For legal questions concerning this action, contact Paul Greer, Office of Chief Counsel, AGC-210, Federal Aviation Administration, 800 Independence Avenue, SW., Washington, DC 20591; telephone: (202) 267-7930; fax: (202) 267-7971; e-mail: paul.g.greer@faa.gov.

SUPPLEMENTARY INFORMATION:

Background

Before publication of this final rule on January 3, 2011 (76 FR 5), Title 14, Code of Federal Regulations (14 CFR) specified that powered gliders that were light-sport aircraft (LSA) had a fixed or autofeathering propeller system. The restriction to “autofeathering” had resulted in confusion to LSA designers. The FAA has determined that a propeller on an LSA powered glider can be safely feathered using either a manual or automatic feathering propeller system, which justifies replacing the term “autofeathering” with “feathering.”

Discussion of the Comments

The FAA received comments from eight individual commenters. All commenters supported the rule change. The commenters generally stated that the rule change removes an unnecessary restriction to the definition of a light-sport aircraft with no adverse safety effect.

Conclusion

After consideration of the comments submitted in response to the final rule, the FAA has determined that no further rulemaking action is necessary. Therefore, Amendment 1-66 remains in effect.

How To Obtain Additional Information

A. Rulemaking Documents

An electronic copy of a rulemaking document my be obtained by using the Internet—

1. Search the Federal eRulemaking Portal (http://www.regulations.gov);

2. Visit the FAA's Regulations and Policies Web page at http://www.faa.gov/regulations_policies/ or

3. Access the Government Printing Office's Web page at http://www.gpoaccess.gov/fr/index.html.

Copies may also be obtained by sending a request (identified by amendment or docket number of this rulemaking) to the Federal Aviation Administration, Office of Rulemaking, ARM-1, 800 Independence Avenue, SW., Washington, DC 20591, or by calling (202) 267-9680.

B. Comments Submitted to the Docket

Comments received may be viewed by going to http://www.regulations.gov and following the online instructions to search the docket number for this action. Anyone is able to search the electronic form of all comments received into any of the FAA's dockets by the name of the individual submitting the comment (or signing the comment, if submitted on behalf of an association, business, labor union, etc.).

C. Small Business Regulatory Enforcement Fairness Act

The Small Business Regulatory Enforcement Fairness Act (SBREFA) of 1996 requires the FAA to comply with small entity requests for information or advice about compliance with statutes and regulations within its jurisdiction. A small entity with questions regarding this document, may contact its local FAA official, or the person listed under the FOR FURTHER INFORMATION CONTACT heading at the beginning of the preamble. To find out more about SBREFA on the Internet, visit http://www.faa.gov/regulations_policies/rulemaking/sbre_act/.

Issued in Washington, DC, on February 14, 2011.
Frank P. Paskiewicz,
Acting Deputy Director, Aircraft Certification Service.

[FR Doc. 2011-3777 Filed 2-17-11; 8:45 am]

BILLING CODE 4910-13-P